DEPARTMENT OF LABOR

Employment and Training Administration

[TA-W-59,021]

3M Precision Optics, Inc., Cincinnati, OH; Notice of Termination of Investigation

Pursuant to section 221 of the Trade Act of 1974, an investigation was initiated on March 14, 2006 in response to a petition filed on behalf of workers at 3M Precision Optics, Inc., Cincinnati, Ohio.

The petitioning group of workers is covered by an active certification, [TA-W-54,549] which expires on May 12, 2006. Consequently, further investigation in this case would serve no purpose, and the investigation has been terminated.

Signed in Washington, DC, this 4th day of April, 2006.
Linda G. Poole,
Certifying Officer, Division of Trade Adjustment Assistance.

[FR Doc. E6-5656 Filed 4-14-06; 8:45 am]

BILLING CODE 4510-30-P